DEPARTMENT OF COMMERCE

National Oceanic and Atmospheric Administration

50 CFR Part 665

RIN 0648-AV29

Fisheries in the Western Pacific; Crustacean Fisheries; Deepwater Shrimp

AGENCY: National Marine Fisheries Service (NMFS), National Oceanic and Atmospheric Administration (NOAA), Commerce.

ACTION: Final rule; correction.

SUMMARY: This document contains a correction to the final regulations that were published in the Federal Register on November 21, 2008. This correction revises the amendatory instruction in the final rule to accurately reflect paragraph designation in the section on permit fees.

DATES: The amendment to § 665.13 will require approval by the Office of Management and Budget (OMB) under the Paperwork Reduction Act (PRA). When OMB approval is received, the effective date will be announced in the Federal Register.

FOR FURTHER INFORMATION CONTACT: Brett Wiedoff, NMFS Pacific Islands Region, Sustainable Fisheries, 808-944-2272.

SUPPLEMENTARY INFORMATION: The final rule published on November 21, 2008, designated deepwater shrimp of the genus Heterocarpus as management unit species (MUS), and requires Federal permits and data reporting for deepwater shrimp fishing in Federal waters of the western Pacific (73 FR 70603). Also on November 21, 2008, NMFS published another final rule that designated three species of pelagic squid as management unit species, and established permitting and reporting requirements for squid jig fishing vessels (73 FR 70600). In the amendatory instruction for § 665.13 in both final rules, an identical paragraph designation was assigned for both new permits fees.

This correction makes a change to the amendatory instruction in the deepwater shrimp final rule to accurately designate the paragraphs in § 665.13. This change is necessary to prevent duplicate paragraph designation. In the amendatory instruction for § 665.13, the phrase, “...and add a new paragraph (f)(2)(vi)...”, is revised to read “...and add a new paragraph (f)(2)(vii)....”

Correction

Accordingly, the final rule amendatory instruction published on November 21, 2008 (73 FR 70603), is corrected to read as follows:

§ 665.13 [Amended]

On page 70604, column 3, the third amendatory instruction is corrected to read as follows:

3. In § 665.13, revise paragraphs (f)(2)(i) through (f)(2)(v), and add a new paragraph (f)(2)(vii) to read as follows:

§ 665.13 Permits and fees.

* * * * *

(f) * * *

(2) * * *

(i) Hawaii longline limited access permit.

(ii) Mau Zone limited access permit.

(iii) Coral reef ecosystem special permit.

(iv) American Samoa longline limited access permit.

(v) Main Hawaiian Islands non-commercial bottomfish permit.

* * * * *

(vii) Crustaceans permit.

* * * * *

Dated: December 5, 2008.
Emily H. Menashes,
Acting Director, Office of Sustainable Fisheries, National Marine Fisheries Service.

[FR Doc. E8-29496 Filed 12-11-08; 8:45 am]

BILLING CODE 3510-22-S